DEPARTMENT OF DEFENSE

Department of the Navy

Privacy Act of 1974; System of Records

AGENCY: Department of the Navy, DoD.

ACTION: Notice to amend a records system.

SUMMARY: The Department of the Navy proposes to amend a system of records notices in its inventory of record systems subject to the Privacy Act of 1974 (5 U.S.C. 552a), as amended.

DATES: The amendments will be effective on June 9, 2003 unless comments are received that would result in a contrary determination.

ADDRESSES: Send comments to Department of the Navy, PA/FOIA Policy Branch, Chief of Naval Operations, N09B10, 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The Department of the Navy proposes to amend a system of records notice in its inventory of record systems subject to the Privacy Act of 1974 (5 U.S.C. 552a), as amended. The amendments to the system of records are not within the purview of subsection (r) of the Privacy Act of 1974 (5 U.S.C. 552a), as amended, which requires the submission of new or altered system report. The records system being amended is set forth below, as amended, published in its entirety.

Dated: May 2, 2003.
Patricia L. Toppings,
Alternate OSD Federal Register Liaison Officer, Department of Defense.

N05520-5

System name:

Personnel Security Program Management Records System (January 23, 1998, 63 FR 3546).

Changes:

* * * * *

Categories of records in the system:

Delete the first paragraph and replace with “Individual”s name (both current, former, and alternate names), Social Security Number, date and place of birth, citizenship status and the unit identification code (UIC) of the individual's assignment. Other data elements track the individual's status in the clearance adjudication process and records the final determination. Data files may also include duty-assignment designations and sensitivity levels, as well as specific access such as cryptographic information access or participation in the Personnel Reliability Program.”

* * * * *

Safeguards:

Delete entry and replace with “Buildings are security-controlled areas accessible only to authorized persons. Department of the Navy Central Adjudications Facility (DON CAF) primary system paper, microfilm and electronic/optical imaged records are maintained in General Service Administration (GSA) approved security containers and/or are stored in security controlled areas accessible only to authorized persons. If classified, locally generated paper security records and/or copies of investigative reports are stored in a vault, safe, or steel file cabinet having at least a lock bar and approved three-position, dial type lock combination padlock, or in similarly protected containers. Sensitive but unclassified records are stored on open shelves and filing cabinets located in secure areas accessible only to authorized personnel. Electronically and optically stored records are maintained in a “fail-safe” system software with password protected access. Records are accessible only to authorized persons with a need-to-know who are properly screened, cleared, and trained.

Files transferred to the NCIS Records Management Division for storage are in an alarmed area approved for open storage, monitored and stored on open shelves, in GSA approved security containers and filing cabinets located in secure areas accessible only to authorized personnel.

DON CAF employees authorized to work offsite will safeguard government/agency records from unauthorized disclosure or damage by transporting only unclassified records in secured briefcases, satchels or boxes. When not in use by the offsite employee, all records or case-related material is stored in a locked file cabinet or desk in the areas designated that is accessible only to authorized persons. Some documents will be prepared on government computers by DON CAF employees at designated offsite locations. When offsite, computers are not authorized to be connected to any network, and no data is authorized to be stored to any employee’s personal computer storage device. Documents prepared at designated offsite locations and or temporarily held for the purposes of offsite work will not be printed at any unauthorized offsite location.”

Retention and disposal:

Delete entry and replace with “Investigative/adjudicative records on non-DoD-affiliated persons who are considered for affiliation with DoD are destroyed after 1 year if affiliation is not completed.

Adjudication decisions that are entered into electronic systems such as JPAS and NJACS, to include decisions by DON CAF employees based on contractor case review records containing recommendations on the suitability of individuals for security clearance and reviews with no or minor issues that do not require the creation of a dossier, are destroyed/deleted 1 year after affiliation is terminated. Reviews with issues are filed for 15 or 25 years as cited below. Contractor case review records are destroyed one year after verification that the case review record information is accurately entered into the electronic system.

Investigative/DON CAF adjudicative records of a routine nature are retained in the active file until final adjudicative decision is made; then retired to NCIS Records Management Division and retained for 15 years after last action reflected in the file, except that files that contain significant derogatory information and/or resulted in adverse action(s) against the individual are destroyed after 25 years. Administrative papers not included in the case file are destroyed 1 year after closure or when no longer needed, whichever is later. Records determined to be of historical value, of wide spread value or Congressional interest are permanent. They will be retained for 25 years after the date of last action reflected in the file and then permanently transferred to the National Archives. Classified nondisclosure agreements if maintained separately from the individual’s official personnel folder will be destroyed when 70 years old. If maintained in the individual's personnel folder, the disposition for the official personnel file applies. Locally stored case file paper or automated access records are destroyed when employee/service member is separated or departs the command, except for access determinations not recorded in official personnel folders. They are destroyed 2 years after the person departs the command. However, once affiliation is terminated, acquiring and adding material to the file is prohibited unless affiliation is renewed. The automated NJACS maintains records on persons as long as they continue to be employed by or affiliated with the DON. NJACS computer data records are purged two years after an individual terminates DON employment or affiliation. General and flag officer data records are maintained until the individual's death. Destruction of records will be by shredding, burning, or pulping for paper records; burning for microform records and magnetic erasing for computerized records. Optical digital data and CD-ROM records are destroyed as required by Information Assurance Remanence Security Publication 5239-26 of May 2000.

* * * * *

Record source categories:

Delete entry and replace with “Information in this system comes from the individual, cognizant security manager or other official sponsoring the security clearance/determination for the subject and from information provided by other sources, e.g., personnel security investigations, personal financial records, military service records and the subject.”

Exemptions claimed for the system:

Delete the first paragraph.

* * * * *

N05520-5

System name:

Personnel Security Program Management Records System.

System location:

Department of the Navy Central Adjudication Facility, Building 176, 716 Sicard Street SE., Suite 2000, Washington Navy Yard, DC 20388-5389 with some portions of the record created and temporarily held at designated off-site locations.

System computer facility:

Defense Security Service, Personnel Investigations Center, 88 Eldridge Landing Road, Linthicum, MD 21090-2902.

Record documentation:

Naval Criminal Investigative Service, 716 Sicard Street SE., Suite 2000, Washington Navy Yard, DC 20388-5380.

Decentralized segments:

The security office of command to which the individual is assigned; Naval Security Group, 9800 Savage Road, Fort Meade, MD 20755-6585; Office of Naval Intelligence (OCB3), 4251 Suitland Road, Washington, DC 20395-5720; and, Headquarters, Naval Criminal Investigative Service, 716 Sicard Street SE., Suite 2000, Washington Navy Yard, DC 20388-5380.

Additionally, duplicate portions of records may be held by the Navy Personnel Command (Pers-83), 5720 Integrity Drive, Millington, TN 38055-0600; servicing Human Resource Offices; Naval Reserve Personnel Center, 4400 Dauphine Boulevard, New Orleans, LA 70149-7800; Headquarters, U.S. Marine Corps (Code MIF), James Wesley Marsh Center, 3280 Russell Road, Quantico, VA 22143-5103; and, the security office at the local activity to which the individual is assigned. Official mailing addresses are published as an appendix to the Navy’s compilation of system of record notices.

Categories of individuals covered by the system:

All Department of the Navy military personnel and civilian employees and certain “affiliated employees” whose duties require or may in the future require a DON security clearance or assignment to sensitive positions and aliens being processed for access to National Security information. Also included are DON adjudicative actions for all U.S. Coast Guard (USCG) military personnel and those USCG civilian employees having access to sensitive compartmented information only. Individuals adjudicated as a result of interservice and interagency support agreements. “Affiliated employees” include contractors, consultants, non-appropriated fund employees, USO personnel and Red-Cross volunteers and staff.

Categories of records in the system:

Individual's name (both current, former, and alternate names), Social Security Number, date and place of birth, citizenship status and the unit identification code (UIC) of the individual's assignment. Other data elements track the individual's status in the clearance adjudication process, and records the final determination. Data files may also include duty-assignment designations and sensitivity levels, as well as specific access such as cryptographic information access or participation in the Personnel Reliability Program

The documentation system includes information pertaining to the investigation, inquiry, or its adjudication by clearance authority to include: (1) Chronology of the investigation, inquiry, and/or adjudication; (2) all recommendations regarding future status of subject; (3) decisions of security/loyalty review boards and Defense Office of Hearings and Appeals (DOHA); (4) final actions/determinations made regarding subject; and (5) security clearance, access authorizations, or security determination; index tracings that contain aliases and names of subject as reflected in Defense Clearance and Investigations Index (DCII) under system notice V5-02; security termination; notification of denial, suspension, or revocation of clearance or access; classified nondisclosure agreements created from 1987 to early 1992 and managed by DON CAF; and other documentation related to the adjudication decision.

At local command security offices information includes tickler copies of requests for clearance and access; records of access, reports of disqualifying/derogatory information; records of clearance of individual personnel as well as accreditation of personnel for access to classified information requiring special access authorizations; nondisclosure agreements, associated briefings and debriefing statements; and other related records supporting the Personnel Security Program.

Authority for maintenance of the system:

5 U.S.C. 301, Departmental Regulations; 5 U.S.C. 7311; 10 U.S.C. 5013; and E.O. 9397 (SSN); E.O. 10450, Security Requirements for Government Employees, in particular sections 2-9, and 14; E.O. 12958, Classified National Security Information; E.O. 12968, Access to Classified Information; DoD Regulation 5200.2-R, Personnel Security Program Regulation; and OPNAV Instruction 5510.30A, Department of Navy Personnel Security Program.

Purpose(s):

To provide a comprehensive system to manage information required to adjudicate and document the eligibility of DON military, civilian, and certain affiliated employees for access to classified information and assignment to sensitive positions.

These records are also used to make determinations of suitability for promotion, employment, or assignments.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the White House to obtain approval of the President of the United States regarding certain military personnel officer actions as provided for in DoD Instruction 1320.4, Military Officer Actions Requiring Approval of the Secretary of Defense or the President, or Confirmation by the Senate.

To the Immigration and Naturalization Service for use in alien admission and naturalization inquiries for purposes of determining access to National Security information.

The DoD “Blanket Routine Uses” that appear at the beginning of the Navy's compilation of systems notices apply to this system.

Policies and practices for storing, retrieving, accessing, retaining, and disposing of records in the system:

Storage:

Maintained on paper records in file folders, audio or audiovisual tapes, micro-imaging; CD-ROM; optical digital data disk; computers; magnetic tapes, disks, and drums; and computer output products.

Retrievability:

By name, dossier number, Social Security Number, and date and place of birth.

Safeguards:

Buildings are security-controlled areas accessible only to authorized persons. Department of the Navy Central Adjudications Facility (DON CAF) primary system paper, microfilm and electronic/optical imaged records are maintained in General Service Administration (GSA) approved security containers and/or are stored in security controlled areas accessible only to authorized persons. If classified, locally generated paper security records and/or copies of investigative reports are stored in a vault, safe, or steel file cabinet having at least a lock bar and approved three-position, dial type lock combination padlock, or in similarly protected containers. Sensitive but unclassified records are stored on open shelves and filing cabinets located in secure areas accessible only to authorized personnel. Electronically and optically stored records are maintained in a “fail-safe” system software with password protected access. Records are accessible only to authorized persons with a need-to-know who are properly screened, cleared, and trained.

Files transferred to the NCIS Records Management Division for storage are in an alarmed area approved for open storage, monitored and stored on open shelves, in GSA approved security containers and filing cabinets located in secure areas accessible only to authorized personnel.

DON CAF employees authorized to work offsite will safeguard government/agency records from unauthorized disclosure or damage by transporting only unclassified records in secured briefcases, satchels or boxes. When not in use by the offsite employee, all records or case-related material is stored in a locked file cabinet or desk in the areas designated that is accessible only to authorized persons. Some documents will be prepared on government computers by DON CAF employees at designated offsite locations. When offsite, computers are not authorized to be connected to any network, and no data is authorized to be stored to any employee's personal computer storage device. Documents prepared at designated offsite locations and or temporarily held for the purposes of offsite work will not be printed at any unauthorized offsite location.

Retention and disposal:

Investigative/adjudicative records on non-DoD-affiliated persons who are considered for affiliation with DoD are destroyed after 1 year if affiliation is not completed.

Adjudication decisions that are entered into electronic systems such as JPAS and NJACS, to include decisions by DON CAF employees based on contractor case review records containing recommendations on the suitability of individuals for security clearance and reviews with no or minor issues that do not require the creation of a dossier, are destroyed/deleted 1 year after affiliation is terminated. Reviews with issues are filed for 15 or 25 years as cited below. Contractor case review records are destroyed one year after verification that the case review record information is accurately entered into the electronic system.

Investigative/DON CAF adjudicative records of a routine nature are retained in the active file until final adjudicative decision is made; then retired to NCIS Records Management Division and retained for 15 years after last action reflected in the file, except that files that contain significant derogatory information and/or resulted in adverse action(s) against the individual are destroyed after 25 years. Administrative papers not included in the case file are destroyed 1 year after closure or when no longer needed, whichever is later. Records determined to be of historical value, of wide spread value or Congressional interest are permanent. They will be retained for 25 years after the date of last action reflected in the file and then permanently transferred to the National Archives. Classified nondisclosure agreements if maintained separately from the individual's official personnel folder will be destroyed when 70 years old. If maintained in the individual's personnel folder, the disposition for the official personnel file applies. Locally stored case file paper or automated access records are destroyed when employee/service member is separated or departs the command, except for access determinations not recorded in official personnel folders. They are destroyed 2 years after the person departs the command. However, once affiliation is terminated, acquiring and adding material to the file is prohibited unless affiliation is renewed. The automated NJACS maintains records on persons as long as they continue to be employed by or affiliated with the DON. NJACS computer data records are purged two years after an individual terminates DON employment or affiliation. General and flag officer data records are maintained until the individual's death. Destruction of records will be by shredding, burning, or pulping for paper records; burning for microform records and magnetic erasing for computerized records. Optical digital data and CD-ROM records are destroyed as required by Information Assurance Remanence Security Publication 5239-26 of May 2000.

System manager(s) and address:

Director, Department of the Navy Central Adjudication Facility, Building 176, 716 Sicard Street SE, Suite 2000, Washington Navy Yard, DC 20388-5389.

Notification procedure:

Individuals seeking to determine whether this system of records contains information about themselves should address written inquiries to the Director, Department of the Navy Central Adjudication Facility, Building 176, 716 Sicard Street SE., Suite 2000, Washington Navy Yard, DC 20388-5389 or to the Commanding Officer/Director of the activity in question. Official mailing addresses are published as an appendix to the Navy's compilation of systems of records notices.

Individuals requesting personal records must properly establish their identity to the satisfaction of the Director, Navy Central Adjudication Facility or the Commanding Officer/Director of the local command, as appropriate. This can be accomplished by providing an unsworn declaration subscribed to be true that states “I declare under penalty of perjury under the laws of the United States of America that the foregoing is true and correct”. Individual should also provide their full name, aliases, date and place of birth, Social Security Number, or other information verifiable from the records in the written request.

Individuals should mark the letter and envelope containing the request “Privacy Act Request”.

Proposed amendments to the information must be directed to the agency which conducted the investigation.

Record access procedures:

Individuals seeking access to records about themselves contained in this system of records should address written inquiries to the Director, Department of the Navy Central Adjudication Facility, Building 176, 716 Sicard Street SE., Suite 2000, Washington Navy Yard, DC 20388-5389 or to the Commanding Officer/Director of the activity in question. Official mailing addresses are published as an appendix to the Navy's compilation of systems of records notices.

Individuals requesting personal records must properly establish their identity to the satisfaction of the Director, Navy Central Adjudication Facility or the Commanding Officer/Director of the local command, as appropriate. This can be accomplished by providing an unsworn declaration subscribed to be true that states “I declare under penalty of perjury under the laws of the United States of America that the foregoing is true and correct”. Individual should also provide their full name, aliases, date and place of birth, Social Security Number, or other information verifiable from the records in the written request.

Individuals should mark the letter and envelope containing the request with “Privacy Act Request''.

Proposed amendments to the information must be directed to the agency which conducted the investigation.

Attorneys or other persons acting on behalf of an individual must provide a written authorization from that individual for their representative to act on their behalf.

Contesting record procedures:

The Navy's rules for accessing records, and for contesting contents and appealing initial agency determinations are published in Secretary of the Navy Instruction 5211.5; 32 CFR part 701; or may be obtained from the system manager.

Record source categories:

Information in this system comes from the individual, cognizant security manager or other official sponsoring the security clearance/determination for the subject and from information provided by other sources, e.g., personnel security investigations, personal financial records, military service records and the subject.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

An exemption rule for this system has been promulgated in accordance with the requirements of 5 U.S.C. 553(b)(1), (2) and (3), (c) and (e) and published in 32 CFR part 701, subpart G. For additional information, contact the system manager.

[FR Doc. 03-11581 Filed 5-8-03; 8:45 am]

BILLING CODE 5001-08-P